DEPARTMENT OF AGRICULTURE

Forest Service

36 CFR Part 242

DEPARTMENT OF THE INTERIOR

Fish and Wildlife Service

50 CFR Part 100

RIN 1018-AJ25

Subsistence Management Regulations for Public Lands in Alaska, Subpart D—2004-05 Subsistence Taking of Wildlife Regulations; Correction

AGENCIES: Forest Service, USDA; Fish and Wildlife Service, Interior.

ACTION: Final rule; correction.

SUMMARY: This rule corrects the Subsistence Management Regulations for Public Lands in Alaska, published in the Federal Register on July 1, 2004, (69 FR 40174) implementing the subsistence priority for rural residents of Alaska under Title VIII of the Alaska National Interest Lands Conservation Act of 1980. The July 1, 2004, final rule established regulations for seasons, harvest limits, methods, and means relating to the taking of wildlife for subsistence uses during the 2004-05 regulatory year. This document makes three changes to that final rule: It corrects an inadvertent error in the definition of “fur,” clarifies exactly who may sell handicrafts made from the fur of bears, and corrects a Government Printing Office publication error relative to caribou seasons in Unit 10.

DATES: The amendment to section __.25 is effective July 1, 2004. The amendment to section __.26 is effective July 1, 2004 through June 30, 2005.

FOR FURTHER INFORMATION CONTACT: Thomas H. Boyd, Office of Subsistence Management, U.S. Fish and Wildlife Service, telephone (907) 786-3888. For questions specific to National Forest System lands, contact Steve Kessler, Regional Subsistence Program Leader, USDA—Forest Service, Alaska Region, telephone (907) 786-3592.

SUPPLEMENTARY INFORMATION:

Background

On July 1, 2004, we published in the Federal Register a final rule to establish regulations for seasons, harvest limits, methods, and means related to taking of wildlife for subsistence uses in Alaska during the 2004-05 regulatory year (69 FR 40174). That rulemaking was necessary because the regulations governing the subsistence harvest of wildlife in Alaska are subject to an annual public review cycle. The July 1, 2004, rule replaced the wildlife regulations that expired on June 30, 2004. The rule also amended the regulations that establish which Alaska residents are eligible to take specific species for subsistence uses.

Since publication of the July 1, 2004, final rule, we have become aware of some needed corrections to that document. Because the final rule related to public lands managed by an agency or agencies in both the Departments of Agriculture and the Interior, identical text was incorporated into 36 CFR part 242 and 50 CFR part 100. Consequently, the corrections cited in this document will be incorporated into those same CFR sections. The corrections are as follows: (1) In the rule, we attempted to clarify the use of fur from bears in handicraft articles by inserting a definition of “fur.” However, we now believe that definition to be incorrect, and this correction replaces the new definition with that in place prior to publication of the final rule. (2) This document clarifies exactly who is allowed to sell handicrafts made from the fur of bears. (3) A final correction identifies the correct seasons for caribou in Unit 10 that were scrambled during printing the original Federal Register publication.

The Federal Subsistence Board finds that additional public notice and comment requirements under the Administrative Procedure Act for this correcting amendment are impracticable, unnecessary, and contrary to the public interest. A lapse in regulatory control could seriously affect the continued viability of wildlife populations, adversely impact future subsistence opportunities for rural Alaskans, and would generally fail to serve the overall public interest. Therefore, the Board finds good cause pursuant to 5 U.S.C. 553(b)(3)(B) to waive the public notice and comment procedures prior to publication of this rule. The Board further finds good cause under 5 U.S.C. 553(d)(3) to make this rule effective July 1, 2004.

Drafting Information

William Knauer drafted these regulations under the guidance of Thomas H. Boyd of the Office of Subsistence Management, Alaska Regional Office, U.S. Fish and Wildlife Service, Anchorage, Alaska. Taylor Brelsford, Alaska State Office, Bureau of Land Management; Greg Bos and Carl Jack, Alaska Regional Office, U.S. Fish and Wildlife Service; Sandy Rabinowitch, Alaska Regional Office, National Park Service; Warren Eastland, Alaska Regional Office, Bureau of Indian Affairs; and Steve Kessler, Alaska Regional Office, USDA-Forest Service, provided additional guidance.

List of Subjects

36 CFR Part 242

Administrative practice and procedure, Alaska, Fish, National forests, Public lands, Reporting and recordkeeping requirements, Wildlife.

50 CFR Part 100

Administrative practice and procedure, Alaska, Fish, National forests, Public lands, Reporting and recordkeeping requirements, Wildlife.

For the reasons presented in the preamble, the Federal Subsistence Board amends Title 36, part 242, and Title 50, part 100, of the Code of Federal Regulations, by making the following correcting amendments:

PART D—SUBSISTENCE MANAGEMENT REGULATIONS FOR PUBLIC LANDS IN ALASKA [AMENDED]

1. The authority citation for both 36 CFR part 242 and 50 CFR part 100 continues to read as follows:

Authority: 16 U.S.C. 3, 472, 551, 668dd, 3101-3126; 18 U.S.C. 3551-3586; 43 U.S.C. 1733.

2. Section __.25 is amended:

a. In paragraph (a), by removing the definition of “fur”;

b. In paragraph (a), by removing the definition of “skin, hide, or pelt” and adding in its place a definition for “skin, hide, pelt, or fur” to read as set forth below; and

c. In paragraph (j), by revising paragraphs (j)(6) and (j)(7) to read as set forth below:

§ __.25 Subsistence taking of fish, wildlife, and shellfish: general regulations.

(a) * * *

Skin, hide, pelt, or fur means any tanned or untanned external covering of an animal's body; excluding bear. The skin, hide, pelt, or fur of a bear is the entire external covering with claws attached.

* * * * *

(J) * * *

(6) If you are a federally qualified subsistence user, you may sell handicraft articles made from the fur of a black bear.

(7) If you are a federally qualified subsistence user, you may sell handicraft articles made from the fur of a brown bear taken from Units 1-5, 9(A)-(C), 9(E), 12, 17, 20, and 25.

* * * * *

3. In § __.26(n)(10), the entry for caribou in the table showing Harvest Limits and Open Season is revised to read as follows:

§ __.26 Subsistence taking of wildlife.

* * * * *

(n) * * *

(10) * * *

Harvest limits | Open season
Hunting
Caribou:
Unit 10—Unimak Island only—4 caribou by Federal registration permit only | Aug. 1-Sept. 30. Nov. 15-Mar. 31.
Unit 10—remainder—No limit | July 1-June 30.

* * * * *

Dated: August 11, 2004.
Thomas H. Boyd,
Acting Chair, Federal Subsistence Board.
Dated: August 11, 2004.
Calvin H. Casipit,
Acting Regional Subsistence Program Leader, USDA-Forest Service.

[FR Doc. 04-19838 Filed 8-30-04; 8:45 am]

BILLING CODE 3410-11; 4310-55-P